DEPARTMENT OF AGRICULTURE

Office of the Secretary

Determination of Total Amounts of Fiscal Year 2010 Tariff-Rate Quotas for Raw Cane Sugar and Certain Sugars, Syrups and Molasses; Correction

AGENCY: Foreign Agricultural Service, USDA.

ACTION: Notice; correction.

SUMMARY: The Foreign Agricultural Service published a document in the Federal Register of September 29, 2009, providing notice of the establishment of the Fiscal Year (FY 2010) in-quota aggregate quantity of the raw, as well as, refined and specialty sugar Tariff-Rate Quotas (TRQ) as required under the U.S. World Trade Organization (WTO) commitments. The document contained an incorrect date.

FOR FURTHER INFORMATION CONTACT: Angel Gonzalez, (202) 720-2916.

Correction

In the Federal Register of September 29, 2009, in FR Doc. E9-23447, on page 49848, in the second column, the 3rd sentence in last paragraph should read: “The first tranche, totaling 1,656 MTRV, will open October 20, 2009.” All other information remains unchanged.

Signed at Washington, DC the 2nd day of October 2009.
Thomas J. Vilsack,
United States Secretary of Agriculture.

[FR Doc. E9-24312 Filed 10-7-09; 8:45 am]

BILLING CODE 3410-10-P